DEPARTMENT OF TRANSPORTATION

[Docket No. OST-2007-27407]

National Surface Transportation Infrastructure Financing Commission

AGENCY: Department of Transportation (DOT).

ACTION: Notice of change in meeting location.

SUMMARY: This notice provides a new location for the eleventh meeting of the National Surface Transportation Infrastructure Financing Commission.

FOR FURTHER INFORMATION CONTACT: John V. Wells, Chief Economist, U.S. Department of Transportation, (202) 366-9224, jack.wells@dot.gov.

SUPPLEMENTARY INFORMATION: By Federal Register Notice dated March 12, 2007, and in accordance with the requirements of the Federal Advisory Committee Act (“FACA”) (5 U.S.C. App. 2) and the Safe, Accountable, Flexible, Efficient Transportation Equity Act: A Legacy for Users (“SAFETEA-LU”) (Pub. L. 109-59, 119 Stat. 1144), the U.S. Department of Transportation (the “Department”) issued a notice of intent to form the National Surface Transportation Infrastructure Financing Commission (the “Financing Commission”). Section 11142(a) of SAFETEA-LU established the National Surface Transportation Infrastructure Financing Commission and charged it with analyzing future highway and transit needs and the finances of the Highway Trust Fund and with making recommendations regarding alternative approaches to financing surface transportation infrastructure.

Notice of Change in Meeting Location

By Federal Register Notice dated March 19, 2008, the Department listed the time and location of the Financing Commission's eleventh meeting as being from 8:30 a.m. to 4 p.m. on Tuesday, May 13, 2008, at the Department's headquarters building, located at 1200 New Jersey Avenue, SE., Washington, DC 20590, in Conference Room W82-302.

The Commissioners have agreed to change the location of their eleventh meeting. The meeting will not be held at the Department's headquarters building, as listed in the Federal Register Notice dated March 19, 2008, but rather will be held at the office of the American Public Transportation Association (APTA), at 1666 K Street, NW., Eleventh Floor, Washington, DC 20006. The time of the meeting was not changed and will be from 8:30 a.m. to 4 p.m. on Tuesday, May 13, 2008, as listed in the Federal Register Notice dated March 19, 2008.

If you need accommodations because of a disability or require additional information to attend this meeting, please contact John V. Wells, Chief Economist, U.S. Department of Transportation, (202) 366-9224, jack.wells@dot.gov.

Issued on this 24th day of April, 2008.
John V. Wells,
Chief Economist, U.S. Department of Transportation, Designated Federal Official.

[FR Doc. E8-9527 Filed 4-29-08; 8:45 am]

BILLING CODE 4910-9X-P